NATIONAL FOUNDATION FOR THE ARTS AND THE HUMANITIES

Notice of Proposed Information Collection Requests: Public Demand for Museum and Library Services (PDMLS) Survey

AGENCY: Institute of Museum and Library Services, The National Foundation for the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act (44 U.S.C. Chapter 35). This pre-clearance consultation program helps to ensure that requested data can be provided in the desired format, reporting burden (time and financial resources) is minimized, collection instruments are clearly understood, and the impact of collection requirements on respondents can be properly assessed. By this notice, IMLS is soliciting comments concerning a proposed survey to collect information to monitor the use, expectations of and satisfaction with cultural programs and services, most especially library and museum services.

A copy of the proposed information collection request can be obtained by contacting the individual listed below in the ADDRESSES section of this notice.

DATES: Written comments must be submitted to the office listed in the addressee section below on or before January 22, 2011.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Carlos Manjarrez, Associate Deputy for Research and Statistics, Institute of Museum and Library Services, 1800 M St., NW., 9th Floor, Washington, DC 20036. Mr. Manjarrez can be reached by Telephone: 202-653-4671, Fax: 202-653-4600, or by e-mail at cmanjarrez@imls.gov, or by teletype (TTY/TDD) for persons with hearing difficulty at 202-653-4614.

SUPPLEMENTARY INFORMATION:

I. Background

The Institute of Museum and Library Services is the primary source of Federal support for the Nation's 123,000 libraries and 17,500 museums. The Institute's mission is to create strong libraries and museums that connect people to information and ideas. The Institute works at the national level and in coordination with State and local organizations to sustain heritage, culture, and knowledge; enhance learning and innovation; and support professional development. IMLS is responsible for identifying national needs for, and trends of, museum and library services funded by IMLS; reporting on the impact and effectiveness of programs conducted with funds made available by IMLS in addressing such needs; and identifying, and disseminating information on, the best practices of such programs. (20 U.S.C. Chapter 72, 20 U.S.C. 9108).

II. Current Actions

Libraries and museums help create vibrant, energized learning communities. Our achievement as individuals and our success as a democratic society depend on learning continually, adapting to change readily, and evaluating information critically.

As stewards of cultural heritage, information and ideas, museums and libraries have traditionally played a vital role in helping us experience, explore, discover and make sense of the world. That role is now more essential than ever. Through building technological infrastructure and strengthening community relationships, libraries and museums can offer the public unprecedented access to and expertise in transforming information overload into knowledge. IMLS provides leadership and funding for the nation's museums and libraries, to help them fulfill their mission of becoming centers of life-long learning crucial to achieving personal fulfillment, a productive workforce and an engaged citizenry.

Consistent with this (20 U.S.C. Chapter 72, 20 U.S.C. 9108), the intention of the PDMLS is to monitor expectations of and satisfaction with library and museum services. A wide range of topics will be covered, with a small number of questions about each topic included on the survey.

The purpose of this survey is to determine attitudes, assess awareness of issues related to library and museum services, and tracking trends. The survey will be used to gather information on a wide range of library and museum services. The design of the PDMLS will be a random digital dial (“RDD”) telephone survey of the adult, non-institutionalized U.S. population which will yield a minimum of 3,000 cases.

The PDMLS will include a core set of demographic questions (e.g., age, gender, race, geographic area) as well as a core set of questions that are based on critical information needs within IMLS (e.g., satisfaction with the library and museum services as a whole; frequency of utilization of various services; physical and virtual access to services). In addition to these core questions, supplemental questions may also be included. The telephone survey is projected to average 18 to 20 minutes to complete.

Agency: Institute of Museum and Library Services.

Title: Public Demand for Museum and Library Services Survey.

OMB Number: To Be Determined.

Frequency: Anticipated for Every Three Years.

Affected Public: The target population for the Public Demand for Museum and Library Services Survey is the noninstitutionalized population, aged 18 and older, who live in the United States. A national probability sample of households generated using list-assisted random digit dialing (RDD) methodology will be employed by the survey. Individual survey respondents within selected households will be chosen at random.

Number of Respondents: 3,000.

Estimated Average Burden per Response: The burden per respondent is estimated to be an average of 18 minutes based on the size of the questionnaire.

Estimated Total Annual Burden: 900 hours (that is 18 minutes times 3,000 respondents equals 54,000) minutes or 900 hours).

Total Annualized Capital/Startup Costs: n/a.

Total Annual Costs: To be determined.

Public Comments Invited: Interested parties are invited to send comments regarding any aspect of this information collection, including, but not limited to: (1) The necessity and utility of the information collection for the proper performance of the functions of IMLS; (2) the accuracy of the estimated burden; (3) ways to enhance the quality, utility, and clarity of the collected information; and (4) ways to minimize the collection burden without reducing the quality of the collected information. Comments submitted in response to this notice will be summarized and/or included in the request for OMB's clearance of this information collection.

FOR FURTHER INFORMATION CONTACT: Carlos Manjarrez, Associate Deputy for Research and Statistics, Institute of Museum and Library Services, 1800 M St., NW., 9th Floor, Washington, DC 20036. Mr. Manjarrez can be reached by Telephone: 202-653-4671, Fax: 202-653-4600, or by e-mail at cmanjarrez@imls.gov, or by teletype (TTY/TDD) for persons with hearing difficulty at 202/653-4614. Office hours are from 8:30 a.m. to 5 p.m., E.T., Monday through Friday, except Federal holidays.

Dated: November 22, 2010.
Kim Miller,
Management Analyst.

[FR Doc. 2010-29876 Filed 11-26-10; 8:45 am]

BILLING CODE 7036-01-P